FEDERAL COMMUNICATIONS COMMISSION

Information Collection Being Reviewed by the Federal Communications Commission Under Delegated Authority

AGENCY: Federal Communications Commission.

ACTION: Notice and request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees. The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before March 25, 2013. If you anticipate that you will be submitting PRA comments, but find it difficult to do so within the period of time allowed by this notice, you should advise the FCC contact listed below as soon as possible.

ADDRESSES: Submit your PRA comments to Nicholas A. Fraser, Office of Management and Budget, via fax at 202-395-5167 or via Internet at Nicholas_A._Fraser@omb.eop.gov and to Benish Shah, Federal Communications Commission, via the Internet at Benish.Shah@fcc.gov. To submit your PRA comments by email send them to: PRA@fcc.gov.

FOR FURTHER INFORMATION CONTACT: Benish Shah, Office of Managing Director, (202) 418-7866.

SUPPLEMENTARY INFORMATION: OMB Control Number: 3060-0758

Title: Sections 5.55(c), 5.61(c), 5.75, 5.85(d), 5.85(e), and 5.93(b)—Experimental Radio Service Regulations.

Form Number: N/A

Type of Review: Extension of a currently approved collection.

Respondents: Business or other for-profit entities; Not-for-profit institutions, and Individuals or household.

Number of Respondents: 428 respondents; 4,524 responses.

Estimated Time per Response: 0.10 to 0.25 hours.

Frequency of Response: Third party disclosure.

Obligation to Respond: Required to obtain or retain benefits.

Total Annual Burden: 681 hours.

Total Annual Cost: None.

Nature and Extent of Confidentiality: There is no need for confidentiality, except for personally identifiable information individuals may submit, which is covered by a system of records, FCC/OET-1, “Experimental Radio Station License Files.”

Privacy Act Impact Assessment: No.

Needs and Uses: The Commission will submit this information collection to the Office of Management and Budget (OMB) after this 60 day comment period in order to obtain the full three year clearance from them. The Commission is requesting an extension (no change in the reporting requirements) of this information collection. The Commission is reporting no change in their burden estimates.

Under 47 CFR part 5 of the FCC's Rules governing the Experimental Radio Service: (1) Pursuant to section 5.55(c), each application for experimental radio authorization shall be specific and complete with regard to—station location, proposed equipment, power, antenna height, and operating frequency; and other information required by the application form and the rules; (2) pursuant to section 5.61(c), an application for experimental special temporary authority shall contain—Name, address, phone number of the applicant, description of why the STA is needed, description of the operation to be conducted and its purpose, time and dates of proposed operation, classes of station and call sign, description of the location, equipment to be used, frequency desired, power desired, and antenna height information; (3) pursuant to Section 5.75, if a blanket license is granted, licensees are required to notify the Commission of the specific details of each individual experiment, including location, number of base and mobile units, power, emission designator, and any other pertinent technical information not specified by the blanket license; (4) pursuant to Section 5.85(d), when applicants are using public safety frequencies to perform experiments of a public safety nature, the license may be conditioned to require coordination between the experimental licensee and appropriate frequency coordinator and/or all public safety licensees in its area of operation; (5) pursuant to Section 5.85(e), the Commission may, at its discretion, condition any experimental license or special temporary authority (STA) on the requirement that before commencing operation, the new licensee coordinate its proposed facility with other licensees that may receive interference as a result of the new licensee's operations; and (6) pursuant to Section 5.93(b), unless otherwise stated in the instrument of authorization, a license granted for the purpose of limited market studies requires the licensee to inform anyone participating in the experiment that the service or device is granted under an experimental authorization and is strictly temporary. In all cases, it is the responsibility of the licensee to coordinate with other users.

Federal Communications Commission.
Marlene H. Dortch,
Secretary.

[FR Doc. 2013-01322 Filed 1-23-13; 8:45 am]

BILLING CODE 6712-01-P